DEPARTMENT OF JUSTICE

Notice of Lodging of Consent Decree Pursuant to the Resource Conservation and Recovery Act (“RCRA”)

Pursuant to Departmental policy, 28 CFR 50.7, notice is hereby given that a proposed consent decree (“Decree”) in United States v. Raymond T. James and Rattan Investment Co., Inc., Civ. No. 1999/145, was lodged on May 7, 2001 with the United States District Court for the District of the Virgin Islands.

In this action, the United States sought civil penalties and injunctive relief, alleging that the operator of a gas station popularly known as “Charlie's Gas Station,” located in Christiansted, St. Croix, U.S. Virgin Islands, violated provisions of the Resource Conservation and Recovery Act (“RCRA”), 42 U.S.C. 6901-6992k. More particularly, the United States alleged that the operators of Charlie's Gas Station failed to employ the release detection methods required for the underground storage tanks (USTs) at the facility under federal regulations applicable to USTs set forth at 40 CFR Part 280, Subpart D, and failed to respond to various information requests sent to them by EPA under the authority of Sections 3007(a) and 9005(a) of RCRA, 42 U.S.C. 6927(a), 6991d(a). The Decree would resolve the liability of the defendants, Raymond T. James and Rattan Investment Co., Inc., for the alleged violations. The Decree requires the defendants to come into compliance with UST regulations by permanently closing the USTs at Charlie's Gas Station (which have been temporarily closed since December 22, 1998) within sixty days after entry of the Decree, which closure will entail cleaning and emptying the USTs, performing a site assessment within five days thereafter to determine whether there is any contamination at the facility, and , if such contamination is found, implementing corrective action. The Decree further requires the defendants to pay a civil penalty of $6,000.

The Department of Justice will receive, for a period of thirty (30) days from the date of this publication, comments relating to the Decree. Comments should be addressed to the Assistant Attorney General, Environment and Natural Resources Division, P.O. Box 7611, U.S. Department of Justice, Washington, D.C. 20044-7611, and should refer to United States v. Raymond T. James and Rattan Investment Co., Inc., DOJ Ref. #90-7-1-06362.

The Decree may be examined at the office of the United States Attorney for the District of the Virgin Islands, 1108 King St., Suite 201, St. Croix, U.S.V.I. 00820-4951 (contact Assistant United States Attorney Ernest F. Batenga); and the Region II Office of the Environmental Protection Agency, 290 Broadway, New York, New York, 10007-1866 (contact Assistant Regional Counsel Donna DeCostanzo). A copy of the Decree may be obtained by mail from the Consent Decree Library, P.O. Box 7611, Washington, D.C. 20044-7611. In requesting a copy please refer to the referenced case and enclose a check in the amount of $6.25 (25 cents per page reproduction costs), payable to the Consent Decree Library.

Ronald G. Gluck,
Assistant Chief, Environmental Enforcement Section, Environment and Natural Resources Division.

[FR Doc. 01-13025 Filed 5-22-01; 8:45 am]

BILLING CODE 4410-15-M